ENVIRONMENTAL PROTECTION AGENCY

40 CFR Part 52

[EPA-R01-OAR-2017-0590; FRL-9974-96—Region 1]

Air Plan Approval; Massachusetts; Logan Airport Parking Freeze

AGENCY: Environmental Protection Agency (EPA).

ACTION: Final rule.

SUMMARY: The Environmental Protection Agency (EPA) is approving a State Implementation Plan (SIP) revision submitted by the Commonwealth of Massachusetts. This SIP revision increases the total number of commercial parking spaces allowed in the Logan Airport Parking Freeze area by 5,000 parking spaces. The intended effect of this action is to reduce carbon monoxide (CO) and nitrogen oxide (NOX) emissions by reducing the increased vehicle miles traveled (VMT) resulting from insufficient available parking at Logan Airport. This action is being taken under the Clean Air Act.

DATES: This rule is effective on April 5, 2018.

ADDRESSES: EPA has established a docket for this action under Docket Identification No. EPA-R01-OAR-2017-0590. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: Anne McWilliams, Air Quality Planning Unit, U.S. Environmental Protection Agency, EPA New England Regional Office, 5 Post Office Square—Suite 100, (Mail code OEP05-2), Boston, MA 02109-3912, tel. (617) 918-1697, email mcwilliams.anne@epa.gov.

SUPPLEMENTARY INFORMATION: Throughout this document whenever “we,” “us,” or “our” is used, we mean EPA.

Table of Contents

I. Background and Purpose

II. Final Action

III. Incorporation by Reference

IV. Statutory and Executive Order Reviews

I. Background and Purpose

On December 5, 2017 (83 FR 57415), EPA published a Notice of Proposed Rulemaking (NPRM) for the Commonwealth of Massachusetts. The NPRM proposed approval of revisions to 310 Code of Massachusetts Regulations (CMR) 7.30 Massachusetts Port Authority (Massport)/Logan Airport Parking Freeze. The formal SIP revision was submitted by Massachusetts on July 13, 2017.

The revised 310 CMR 7.30 increases the total number of commercial spaces in the Logan Parking Freeze area by 5,000 spaces to a total of 26,088. In the event that the remaining 702 park-and-fly spaces in the East Boston Parking Freeze cap were converted to commercial spaces at Logan Airport in the future, the maximum total number of spaces permitted would be 26,790.

In addition, the revision requires Massport to complete the following studies within 24 months of June 30, 2017: (1) Potential improvements to high occupancy vehicle access to Logan Airport; (2) a cost and pricing assessment for different modes of transportation to and from Logan Airport in order to generate revenue for the promotion of high-occupancy vehicle (HOV) use by airport travelers and visitors; and (3) the feasibility and effectiveness of potential operational measures to reduce non-HOV pick-up/drop-off modes of transportation to Logan Airport.

Finally, the revision allows Massport to satisfy its annual reporting requirements through its submission of annual Environmental Data Reports or similar airport-wide documents under the Massachusetts Environmental Policy Act (MEPA).

The rationale for EPA's proposed action is explained in the NPR and will not be restated here. EPA received comments from the Conservation Law Foundation (CLF) in support of the NPRM after the close of the comment period, and they have been included in the docket for this action. Initially, CLF opposed the addition of 5,000 commercial parking spaces. However, with the development of a binding agreement between CLF and Massport, CLF now supports this SIP revision due to the agreed upon addition of substantial transportation mitigation measures and increased HOV targets. The only comment received during the public comment period was not germane or specific to this rulemaking, and did not state how or why the rule should be changed. Therefore, no additional response to the comment will be provided here.

II. Final Action

EPA is approving revised 310 CMR 7.30 Massport/Logan Airport Parking Freeze as a revision to the Massachusetts SIP.

III. Incorporation by Reference

In this rule, the EPA is finalizing regulatory text that includes incorporation by reference. In accordance with requirements of 1 CFR 51.5, the EPA is finalizing the incorporation by reference of 310 CMR 7.30 Massport/Logan Airport Parking Freeze described in the amendments to 40 CFR part 52 set forth below. The EPA has made, and will continue to make, these documents generally available through https://www.regulations.gov.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 7, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Regional haze, Reporting and recordkeeping requirements, Sulfur oxides, Volatile organic compounds.

Dated: February 26, 2018.
Alexandra Dapolito Dunn,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart W—Massachusetts

2. In § 52.1120, in paragraph (c), amend the table by revising the entry “310 CMR 7.30” to read as follows:

§ 52.1120 Identification of plan.

* * * * *

(c) * * *

EPA Approved Massachusetts Regulations
State citation | Title/subject | State effective date | EPA approval date ¹ | Explanations
* * * * * * *
310 CMR 7.30 | Massport/Logan Airport Parking Freeze | 6/30/2017 | 3/6/2018 [Insert Federal Register citation] | Revises the existing commercial parking freeze limits and requires the Massachusetts Port Authority to complete several studies to evaluate ways to further support alternative transit options.
* * * * * * *
¹ To determine the EPA effective date for a specific provision listed in this table, consult the Federal Register notice cited in this column for the particular provision.

* * * * *

[FR Doc. 2018-04488 Filed 3-5-18; 8:45 am]

BILLING CODE 6560-50-P